DEPARTMENT OF TRANSPORTATION

Federal Aviation Administration

14 CFR Part 39

[Docket No. FAA-2006-24411; Directorate Identifier 2006-NM-033-AD]

RIN 2120-AA64

Airworthiness Directives; Bombardier Model DHC-8-102, -103, -106, -201, -202, -301, -311, -314, and -315 Airplanes; Equipped with Certain Cockpit Door Installations

AGENCY: Federal Aviation Administration (FAA), Department of Transportation (DOT).

ACTION: Notice of proposed rulemaking (NPRM).

SUMMARY: The FAA proposes to adopt a new airworthiness directive (AD) for certain Bombardier Model DHC-8-102, -103, -106, -201, -202, -301, -311, -314, and -315 airplanes. This proposed AD would require modifying the hinge attachment for the cockpit door from a single-point attachment to a two-point attachment. This proposed AD results from a report that, during structural testing of the cockpit door, the lower hinge block rotated and caused the mating hinge pin to disengage, and caused excessive door deflection. We are proposing this AD to prevent failure of a door attachment, which could result in uncontrolled release of the cockpit door under certain fuselage decompression conditions, and possible damage to the airplane structure.

DATES: We must receive comments on this proposed AD by May 11, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• Fax: (202) 493-2251.

• Hand Delivery: Room PL-401 on the plaza level of the Nassif Building, 400 Seventh Street SW., Washington, DC, between 9 a.m. and 5 p.m., Monday through Friday, except Federal holidays.

Contact Bombardier, Inc., Bombardier Regional Aircraft Division, 123 Garratt Boulevard, Downsview, Ontario M3K 1Y5, Canada, for service information identified in this proposed AD.

FOR FURTHER INFORMATION CONTACT: George Duckett, Aerospace Engineer, Airframe and Propulsion Branch, ANE-171, New York Aircraft Certification Office, FAA, 1600 Stewart Avenue, suite 410, Westbury, New York 11590; telephone (516) 228-7325; fax (516) 794-5531.

SUPPLEMENTARY INFORMATION:

Comments Invited

We invite you to submit any relevant written data, views, or arguments regarding this proposed AD. Send your comments to an address listed in the ADDRESSES section. Include the docket number “FAA-2006-24411; Directorate Identifier 2006-NM-033-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

Transport Canada Civil Aviation (TCCA), which is the airworthiness authority for Canada, notified us that an unsafe condition may exist on certain Bombardier Model DHC-8-102, -103, -106, -201, -202, -301, -311, -314, and -315 airplanes. TCCA advises that, during structural testing of the cockpit door, the lower hinge block rotated and caused the mating hinge pin to disengage, and caused excessive door deflection. The rotation of the lower hinge block was caused by an inadequate number of attachment bolts for the hinge block. This condition, if not corrected, could cause failure of a door attachment, which could result in uncontrolled release of the cockpit door under certain fuselage decompression conditions, and possible damage to the aircraft structure.

Relevant Service Information

Bombardier has issued the service bulletins listed in the following table. These service bulletins apply to Bombardier Model DHC-8-102, -103, -106, -201, -202, -301, -311, -314, and -315 airplanes that have the serial numbers specified in the table.

Bombardier Service Bulletins
Use this Bombardier Service Bulletin— | For serial numbers—
8-52-54, Revision A, dated November 5, 2004 | 003 through 451 inclusive, 453 through 463 inclusive, 465 through 489 inclusive, 491 through 505 inclusive, and 507.
8-52-58, dated May 12, 2004 | 452, 464, 490, 506, and 508 through 557 inclusive.

The service bulletins describe procedures for modifying the cockpit door from a single-point attachment to a two-point attachment. The modification involves the following actions, as applicable, depending on the configuration of the airplane: Reworking the door fairing, reworking the door post, installing a new strike plate, installing a new hinge assembly, aligning the hinges, and installing a new label regarding alternate release of the door. Accomplishing the actions specified in the service information is intended to adequately address the unsafe condition.

For certain airplanes, the service bulletins specify doing the modifications listed in the following table prior to or concurrently with the procedures in the service bulletins.

Prior/Concurrent Requirements
For airplanes affected by Bombardier Service Bulletin— | That have these serial numbers— | Do these modifications— | As specified in—
8-52-54, Revision A, dated November 5, 2004 | 003 through 407 inclusive, 409 through 412 inclusive, and 414 through 433 inclusive | Rework the cockpit door emergency release | De Havilland Aircraft of Canada, Limited, Modification 8/2337.
|  | Install a new label regarding alternate release of the door | De Havilland Aircraft of Canada, Limited, Modification 8/3339.
8-52-58, dated May 12, 2004 | 452, 464, 490, 506, and 508 through 557 inclusive | Install the cockpit door | Bombardier Modsum 8Q200015.
|  | Install the cockpit door | Bombardier Modsum 8Q420101.
|  | Install the cockpit door with a blow-out door panel | Bombardier Modsum 8Q420143.

TCCA mandated the service information and issued Canadian airworthiness directive CF-3005-34, dated August 29, 2005, to ensure the continued airworthiness of these airplanes in Canada.

Bombardier Service Bulletin 8-52-54 refers to Bombardier Modsum 8Q100859 as an additional source of service information for installing a hinge pin with a two-point attachment. Bombardier Service Bulletin 8-52-58 refers to Bombardier Modsum 8Q900267 as an additional source of service information for reworking and installing the cockpit door, and reworking the lower hinge attachment to provide a downward-facing pin with a two-point attachment.

FAA's Determination and Requirements of the Proposed AD

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that we need to issue an AD for airplanes of this type design that are certificated for operation in the United States.

Therefore, we are proposing this AD, which would require accomplishing the actions specified in the service information described previously.

Costs of Compliance

This proposed AD would affect about 16 airplanes of U.S. registry. The proposed actions would take between 3 and 6 work hours per airplane, depending on the airplane configuration. The average labor rate is $80 per work hour. Required parts would cost about $2,000 per airplane. Based on these figures, the estimated cost of the proposed AD for U.S. operators is between $35,840 and $39,680, or between $2,240 and $2,480 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Bombardier, Inc. (Formerly de Havilland, Inc.): Docket No. FAA-2006-24411; Directorate Identifier 2006-NM-033-AD.

Comments Due Date

(a) The FAA must receive comments on this AD action by May 11, 2006.

Affected ADs

(b) None.

Applicability

(c) This AD applies to Bombardier Model DHC-8-102, -103, -106, -201, -202, -301, -311, -314, and -315 airplanes, certificated in any category; serial numbers 003 through 557 inclusive; equipped with cockpit door installation part numbers (P/Ns) identified in Table 1 of this AD.

Table 1.—Cockpit Door Installations Affected by This AD
P/N | Dash nos.
82510074 | All.
82510294 | All.
82510310 | -001.
8Z4597 | -001.
H85250010 | All.
82510700 | All.
82510704 | All except -502 and -503.

Unsafe Condition

(d) This AD results from a report that, during structural testing of the cockpit door, the lower hinge block rotated and caused the mating hinge pin to disengage, and caused excessive door deflection. We are issuing this AD to prevent failure of a door attachment, which could result in uncontrolled release of the cockpit door under certain fuselage decompression conditions, and possible damage to the aircraft structure.

Compliance

(e) You are responsible for having the actions required by this AD performed within the compliance times specified, unless the actions have already been done.

Modification

(f) Within 24 months after the effective date of this AD, modify the cockpit door from a single-point attachment to a two-point attachment in accordance with the Accomplishment Instructions of the applicable service bulletin in Table 2 of this AD.

Table 2.—Bombardier Service Bulletins
Use this Bombardier Service Bulletin— | For serial numbers—
8-52-54, Revision A, dated November 5, 2004 | 003 through 451 inclusive, 453 through 463 inclusive, 465 through 489 inclusive, 491 through 505 inclusive, and 507.
8-52-58, dated May 12, 2004 | 452, 464, 490, 506, and 508 through 557 inclusive.

Note 1: Bombardier Service Bulletin 8-52-54 refers to Bombardier Modification Summary (Modsum) 8Q100859 as an additional source of service information for installing a hinge pin with a two-point attachment. Bombardier Service bulletin 8-52-58 refers to Bombardier Modsum 8Q900267 as an additional source of service information for reworking and installing the cockpit door, and reworking the lower hinge attachment to provide a downward-facing pin with a two-point attachment.

Prior/Concurrent Requirements

(g) Prior to or concurrently with the modification in paragraph (f) of this AD, do the applicable actions specified in Table 3 of this AD according to a method approved by either the Manager, New York Aircraft Certification (ACO), FAA; or Transport Canada Civil Aviation (TCCA) (or its delegated agent). One approved method is the applicable modification or Modsum listed in the “One approved method for doing these actions” column of Table 3 of this AD.

Table 3.—Bombardier Service Bulletins
For airplanes affected by Bombardier Service Bulletin— | That have these serial numbers— | Do these actions— | One approved method for doing these actions—
8-52-54, Revision A, dated November 5, 2004 | 003 through 407 inclusive, 409 through 412 inclusive, and 414 through 433 inclusive | Rework the cockpit door emergency release | De Havilland Aircraft of Canada, Limited, Modification 8/2337.
|  | Install a new label regarding alternate release of the door | De Havilland Aircraft of Canada, Limited, Modification 8/3339.
8-52-58, dated May 12, 2004 | 452, 464, 490, 506, and 508 through 557 inclusive | Install the cockpit door | Bombardier Modsum 8Q200015.
|  | Install the cockpit door | Bombardier Modsum 8Q420101.
|  | Install the cockpit door with a blow-out door panel | Bombardier Modsum 8Q420143.

Actions Done in Accordance With Previous Revision of Service Bulletin

(h) Actions done before the effective date of this AD in accordance with Bombardier Service Bulletin 8-52-54, dated May 12, 2004, are acceptable for compliance with the corresponding requirements in paragraph (f) of this AD.

Alternative Methods of Compliance (AMOCs)

(i)(1) The Manager, New York Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) Canadian airworthiness directive CF-2005-34, dated August 29, 2005, also addresses the subject of this AD.

Issued in Renton, Washington, on March 31, 2006.
Ali Bahrami,
Manager, Transport Airplane Directorate, Aircraft Certification Service.

[FR Doc. 06-3435 Filed 4-10-06; 8:45 am]

BILLING CODE 4910-13-P